DEPARTMENT OF DEFENSE

GENERAL SERVICES ADMINISTRATION

NATIONAL AERONAUTICS AND SPACE ADMINISTRATION

[Notice-MVC-2019-01; Docket No. 2019-0009; Sequence No. 1]

Federal Acquisition Regulation; Prohibition on Contracting With Entities Using Certain Telecommunications and Video Surveillance Services or Equipment (FAR Case 2019-009), Public Meeting

AGENCY: Department of Defense (DoD), General Services Administration (GSA), and National Aeronautics and Space Administration (NASA).

ACTION: Announcement of public meeting.

SUMMARY: DoD, GSA, and NASA are hosting a public meeting to obtain views of experts and interested parties regarding implementation of section 889 of Title VII of the NDAA for FY 2019, with specific focus on the implementation of paragraph (a)(1)(B). This paragraph prohibits agencies from entering into a contract (or extending or renewing a contract) with an entity that uses any equipment, system, or service that uses covered telecommunications equipment or services as a substantial or essential component of any system, or as critical technology as part of any system.

DATES: The public meeting will be held on Friday, July 19, 2019, from 9:00 a.m. to 3:00 p.m., Eastern Daylight Time (EDT). The meeting will end prior to 3:00 p.m. if all speakers have concluded their presentations and there are no further comments from the general public.

ADDRESSES: The meeting will be held in the Department of Interior (DOI) Auditorium at 1849 C St. NW, Washington, DC 20240. Interested parties may also attend virtually through GSA's virtual meeting platform, hosted by Adobe Connect. DoD, GSA, and NASA cannot guarantee the reliability of the virtual meeting platform. Further details on the virtual meeting will be made available a few days before the meeting on the GSA Interact web page at https://interact.gsa.gov/FY19NDAASection889. Further information for the public meeting may be found under the heading SUPPLEMENTARY INFORMATION.

FOR FURTHER INFORMATION CONTACT: Mr. Kevin Funk, Procurement Analyst, 202-357-5805.

SUPPLEMENTARY INFORMATION:

A. Background

The National Defense Authorization Act (NDAA) for Fiscal Year 2019 (Pub. L. 115-232), Title VII, Section 889, Prohibition on certain telecommunications and video surveillance services or equipment, identifies sources of “covered telecommunications equipment or services” and, in paragraph (a)(1)(B), states that “The head of an executive agency may not enter into a contract (or extend or renew a contract) with an entity that uses any equipment, system, or service that uses covered telecommunications equipment or services as a substantial or essential component of any system, or as critical technology as part of any system.”

DoD, GSA, and NASA are seeking feedback from stakeholders to inform effective implementation of the prohibition in paragraph (a)(1)(B). Paragraph (a)(1)(A) of section 889 will be implemented separately through FAR Case 2018-017.

Given the focus of section 889, it is anticipated that the impact of implementation of paragraph (a)(1)(B) may vary across affected stakeholder communities, including information and communications technology vendors, security services vendors, and other vendors who provide unrelated goods and services but rely on information and communications technology and security services as incidental but essential components of their operations.

As the Government considers implementation of section 889, DoD, GSA, and NASA especially welcome input on the following questions regarding anticipated impact on affected stakeholders:

• Beyond the statutory language of the prohibition, what additional information or guidance do you view as necessary to effectively comply with paragraph (a)(1)(B) of section 889?

• To what extent will compliance with the prohibition in paragraph (a)(1)(B) of section 889 incur additional cost or other burden in providing goods or services to the Federal government? Please be specific in describing the impact.

• To what extent do you currently have insight into existing systems and their components, sufficient to ensure compliance with paragraph (a)(1)(B) of section 889?

• To what extent do you currently have direct control over existing systems in use (e.g., physical security systems) and their components, as contrasted with contracting for services that are provided by a separate entity (e.g., landlords, subcontractors)?

• To the extent that there are gaps in insight or control described in response to the previous questions, how much time do you anticipate will be needed to establish the required insight or control to ensure compliance with paragraph (a)(1)(B) of section 889?

• Will the requirement to comply with the prohibition in paragraph (a)(1)(B) impact your willingness to offer goods and services to the Federal government as of the stated effective date? Please be specific in describing the impact (e.g., what types of products or services might no longer be offered, or offered in a modified form, and why).

• To what extent does your response to the above question change if you are given more time?

• What other challenges do you anticipate facing in effectively meeting the implementation date of August 13, 2020?

B. Registration

To ensure adequate room accommodations and to facilitate security screening and entry to the DOI Auditorium, individuals wishing to attend the public meeting in-person must register by Friday, July 5, 2019. To register, please visit the GSA Interact web page at https://interact.gsa.gov/FY19NDAASection889, and utilize the in-person registration link provided. Registration for in-person attendance is free and based on space availability. Early registration is recommended because, registration will close once the capacity for the DOI Auditorium has been reached. Members of the press must also RSVP to press@gsa.gov by July 5, 2019.

C. In-Person Attendance

Registration check-in will begin at 8 a.m., EDT, on July 19, 2019, with the meeting starting promptly at 9 a.m., EDT. Information on getting to the DOI building can be found on https://www.doi.gov/interiormuseum/Plan-a-Visit. Attendees must be prepared to present a valid form of government-issued photo identification. There is no food or drink allowed in the DOI Auditorium. There is no parking available at DOI; however, there is public parking available nearby.

D. Format

DoD, GSA, and NASA intend to conduct a town-hall style discussion focused on implementation of paragraph (a)(1)(B) of section 889 of Title VII of the NDAA for FY 2019 (Pub. L. 115-232). In-person attendees will be provided an opportunity to provide prepared comments and presentations during the discussion as time allows. Attendees participating through the virtual platform will only be able to join the meeting in a “listen only” mode and will not be able to provide prepared remarks or presentations. A copy of the agenda will be posted prior to the date of the meeting on the GSA Interact web page at https://interact.gsa.gov/FY19NDAASection889.

E. Presentations

If you wish to make a presentation, please submit an electronic copy of your presentation via email to kevin.funk@gsa.gov no later than Monday, July 8, 2019. Attendees providing presentations, including prepared comments, shall be limited to ten minutes. Each presentation should be in PowerPoint to facilitate projection during the public meeting and should include the presenter's name, organization affiliation, telephone number, and email address on the cover page.

Please submit presentations only and cite “Public Meeting, FAR Case 2019-009” in all correspondence related to the public meeting. There will be no transcription of the meeting. The submitted presentations will be the only record of the public meeting and will be posted at the conclusion of the public meeting to the GSA Interact web page at https://interact.gsa.gov/FY19NDAASection889.

F. Special Accommodations

The public meeting is physically accessible to people with disabilities. Request for sign language interpretation or other auxiliary aids should be directed to kevin.funk@gsa.gov by Monday, June 24, 2019. Please see the GSA Interact web page at https://interact.gsa.gov/FY19NDAASection889 for additional information on public meeting content and for a posting of the agenda (to be made available a few days prior to the meeting).

Dated: May 29, 2019.
Janet Fry,
Director, Federal Acquisition Policy Division, Office of Governmentwide Acquisition Policy, Office of Acquisition Policy, Office of Governmentwide Policy.

[FR Doc. 2019-11490 Filed 5-31-19; 8:45 am]

BILLING CODE 6820-EP-P